DEPARTMENT OF ENERGY

Federal Energy Regulatory Commission

[Docket No. RP01-43-000]

Eastern Shore Natural Gas Company; Notice of Proposed Changes in FERC Gas Tariff

October 17, 2000.

Take notice that on October 12, 2000, Eastern Shore Natural Gas Company (Eastern Shore) tendered for filing as part of its FERC Gas Tariff, Second Revised Volume No. 1, certain revised tariff sheets, proposed to be effective on November 1, 2000.

Eastern Shore states that the purpose of this filing is to make the necessary modifications to its tariff to permit imbalance trading in order to comply with the requirements of FERC Order No. 587-L.

Eastern Shore states that copies of its filing has been mailed to its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27101 Filed 10-20-00; 8:45 am]

BILLING CODE 6717-01-M